MORRIS K. UDALL AND STEWART L. UDALL FOUNDATION

Sunshine Act Meetings

TIME AND DATE: 10 a.m. to 3 p.m. (EDT), Tuesday, July 23, 2024.

PLACE: The offices of The University of Arizona Washington, DC Center for Outreach and Collaboration, 1301 Pennsylvania Avenue NW, Suite 500, Washington, DC 20004.

STATUS: Parts of this special meeting of the Board of Trustees will be open to the public. The rest of the meeting will be closed to the public. Members of the public who would like to observe the public session of this meeting may request remote access by contacting Sara Moeller at moeller@udall.gov prior to July 23, 2024, to obtain the teleconference connection information.

MATTERS TO BE CONSIDERED: (1) Call to Order and Chair's Remarks; (2) Trustees' Remarks; (3) Executive Director's Remarks; (4) Consent Agenda Approval (Minutes of the April 3, 2024, Board of Trustees Meeting, and Board takes notice of any new and updated personnel policies and internal control methodologies); (5) Vote on Proposed Executive Session (discuss internal personnel rules and practices of the agency, and disclose information of a personal nature where disclosure would constitute a clearly unwarranted invasion of personal privacy); (6) Program Eligibility; and (7) Executive Session.

PORTIONS OPEN TO THE PUBLIC: All agenda items except as noted below.

PORTIONS CLOSED TO THE PUBLIC: Executive Session.

CONTACT PERSON FOR MORE INFORMATION: Sara Moeller, Administrative Officer, 434 E University Blvd., Suite 300, Tucson, AZ 85705, (520) 901-8568.

Dated: July 3, 2024.
David P. Brown,
Executive Director, Morris K. Udall and Stewart L. Udall Foundation.

[FR Doc. 2024-15056 Filed 7-3-24; 4:15 pm]

BILLING CODE 6820-FN-P